DEPARTMENT OF THE TREASURY

Senior Executive Service; Legal Division Performance Review Board

AGENCY: Department of the Treasury.

ACTION: Notice of members of the Legal Division Performance Review Board (PRB).

SUMMARY: This notice announces the appointment of members of the Legal Division PRB. The purpose of this Board is to review and make recommendations concerning proposed performance appraisals, ratings, bonuses, and other appropriate personnel actions for incumbents of SES positions in the Legal Division.

DATES: November 7, 2018.

FOR FURTHER INFORMATION CONTACT: Office of the General Counsel, Department of the Treasury, 1500 Pennsylvania Avenue NW, Room 3000, Washington, DC 20220, Telephone: (202) 622-0283 (this is not a toll-free number).

SUPPLEMENTARY INFORMATION:

Composition of Legal Division PRB

The Board shall consist of at least three members. In the case of an appraisal of a career appointee, more than half the members shall consist of career appointees. Composition of the specific PRBs will be determined on an ad hoc basis from among the individuals listed in this notice.

The names and titles of the PRB members are as follows:

Paul Ahern, Assistant General Counsel (Enforcement & Intelligence);

Michael Briskin (Deputy Assistant General Counsel (General Law, Ethics and Regulation);

Brian Callanan, Deputy General Counsel;

Michelle Dickerman, Deputy Assistant General Counsel (Litigation, Oversight, and Financial Stability);

Eric Froman, Principal Deputy Assistant General Counsel (Banking and Finance);

Anthony Gledhill, Chief Counsel, Alcohol Tobacco, Tax, and Trade Bureau;

Elizabeth Horton, Deputy Assistant General Counsel (Ethics);

Mark Kaizen—Associate Chief Counsel, General Legal Services, Internal Revenue Service;

Jimmy Kirby, Chief Counsel, Financial Crimes Enforcement Network;

Jeffrey Klein, Deputy Assistant General Counsel (International Affairs);

Steven D. Laughton, Assistant General Counsel (Banking and Finance);

Martha M. Pacold, Deputy General Counsel;

Douglas Poms, Deputy International Tax Counsel;

Sidney Rocke, Chief Counsel, Bureau of Engraving and Printing;

John Schorn, Chief Counsel, U.S. Mint;

Bradley Smith, Chief Counsel, Office of Foreign Assets Control;

Brian Sonfield, Assistant General Counsel (General Law, Ethics and Regulation);

David Sullivan, Assistant General Counsel (International Affairs);

Heather Trew, Deputy Assistant General Counsel (Enforcement & Intelligence);

Krishna Vallabhaneni, Deputy Tax Legislative Counsel;

Thomas West, Tax Legislative Counsel and;

Paul Wolfteich, Chief Counsel, Bureau of the Fiscal Service.

Brent J. McIntosh,
General Counsel.

[FR Doc. 2018-24365 Filed 11-6-18; 8:45 am]

BILLING CODE 4810-25-P